DEPARTMENT OF TRANSPORTATION

Surface Transportation Board

[STB Finance Docket No. 35300]

Central Railroad Company of Indianapolis—Lease and Operation Exemption—Norfolk Southern Railway Company

Central Railroad Company of Indianapolis (CERA), a Class III carrier, has filed a verified notice of exemption under 49 CFR 1150.41 to lease and to operate, pursuant to a lease agreement (Agreement) entered into on September 14, 2009, with Norfolk Southern Railway Company (NSR), approximately 15.9 miles of NSR's rail line between milepost RK-154.5, a point just east of the grade crossing at 38th Street, in Gas City, Grant County, IN, and milepost RK-138.6 at the end of the line, at Hartford City, Blackford County, IN (the line).¹ The Agreement also includes operating rights into Goodman Yard, and any sidings or sidetracks owned by NSR that are accessed via the line.

¹ The line does not include a parcel of land on and adjacent to the right-of-way at milepost 145.20.

CERA states that there is no provision or agreement that will limit future interchange with a third-party connecting carrier, whether by outright prohibition, per-car penalty, adjustment in the purchase price or rental, positive economic inducement, or other means. See 49 CFR 1150.43(h).

CERA certifies that its projected annual revenues as a result of this transaction would not exceed those that would qualify it as a Class III rail carrier. However, because its projected annual revenues will exceed $5 million, CERA also certifies that it has complied with notice requirements of 49 CFR 1150.42(e).

The transaction is scheduled to be consummated on December 1, 2009, at least 60 days after CERA's certification of the notice requirements of section 49 CFR 1150.42(e).

Pursuant to the Consolidated Appropriations Act, 2008, Public Law No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than November 24, 2009 (at least 7 days before the exemption becomes effective).

An original and 10 copies of all pleadings, referring to STB Finance Docket No. 35300, must be filed with the Surface Transportation Board, 395 E Street, SW., Washington, DC 20423-0001. In addition, a copy of each pleading must be served on Louis E. Gitomer, Law Offices of Louis E. Gitomer, LLC, 600 Baltimore Avenue, Suite 301, Towson, MD 21204.

Board decisions and notices are available on our Web site at http://www.stb.dot.gov.

Decided: October 16, 2009.
By the Board, Rachel D. Campbell, Director, Office of Proceedings.
Jeffrey Herzig,
Clearance Clerk.

[FR Doc. E9-25312 Filed 10-20-09; 8:45 am]

BILLING CODE 4915-01-P